DEPARTMENT OF COMMERCE

National Oceanic and Atmospheric Administration

RIN 0648-XD614

South Atlantic Fishery Management Council; Public Meeting

AGENCY: National Marine Fisheries Service (NMFS), National Oceanic and Atmospheric Administration (NOAA), Commerce.

ACTION: Notice of public meeting of the South Atlantic Fishery Management Council (SAFMC).

SUMMARY: The South Atlantic Fishery Management Council (Council) will hold meetings of the: Habitat and Environmental Protection Committee; Protected Resources Committee; Personnel Committee (closed session); Advisory Panel Selection Committee (closed session); Southeast Data, Assessment and Review (SEDAR) Committee; Snapper Grouper Committee; a joint meeting of the Dolphin Wahoo Committee and Snapper Grouper Committee; King & Spanish Mackerel Committee; Executive Finance Committee; Golden Crab Committee; Data Collection Committee; and a meeting of the Full Council. The Council will also hold a Council Member Visioning Project Workshop and receive a presentation on the Biscayne National Park Fishery Management Plan as part of the meeting. The Council will take action as necessary. The Council will also hold an informal public question and answer session regarding agenda items and a formal public comment session.

DATES: The Council meeting will be held from 9 a.m. on Monday, December 1, 2014 until 1:30 p.m. on Friday, December 5, 2014.

ADDRESSES: Meeting address: The meeting will be held at the Doubletree Riverfront Hotel, 100 Middle Street, New Bern, NC 28560; telephone: (252) 638-3585.

Council address: South Atlantic Fishery Management Council, 4055 Faber Place Drive, Suite 201, N. Charleston, SC 29405.

FOR FURTHER INFORMATION CONTACT: Kim Iverson, Public Information Officer, SAFMC; telephone: (843) 571-4366 or toll free (866) SAFMC-10; fax: (843) 769-4520; email: kim.iverson@safmc.net.

SUPPLEMENTARY INFORMATION: The items of discussion in the individual meeting agendas are as follows:

Council Visioning Workshop, Monday, December 1, 2014, 9 a.m. Until 12 Noon

Council members will receive a recap the October 2014 Visioning Workshop, review the draft Snapper Grouper goals and objectives, continue to work on the Visioning process and provide direction to staff.

Presentation: Biscayne National Park Fishery Management Plan, Monday, December 1, 2014, 1:30 p.m. Until 2:30 p.m.

Council members will receive a presentation on the Biscayne National Park Fishery Management Plan.

Habitat and Environmental Protection Committee, Monday, December 1, 2014, 2:30 p.m. Until 4 p.m.

1. The Committee will receive an update on the status of Amendment 8 to the Coral Fishery Management Plan addressing expansion of deepwater coral Habitat Areas of Particular Concern, receive an update on the rock shrimp Vessel Monitoring System (VMS) and bycatch analysis, and provide direction to staff.

2. The Committee will receive a briefing on the proposed nomination for an Oculina National Marine Sanctuary.

Scientific and Statistical Committee (SSC) Selection Committee, Monday, December 1, 2014, 4 p.m. Until 4:30 p.m.

The Committee will review the SSC polices and provide guidance to staff on any policy revisions.

Protected Resources Committee, Monday, December 1, 2014, 4:30 p.m. Until 5:30 p.m.

1. The Committee will receive a report on formal consultations and other Protected Resources updates, and receive an overview of the Nassau Grouper Proposed Rule. The committee will discuss and take action as necessary.

2. The Committee will receive an overview of the Atlantic Large Whale Take Reduction Plan requirements, discuss and take action as necessary. The Committee will also receive updates on American Eel status and the Atlantic sturgeon stock assessment.

Personnel Committee, Tuesday, December 2, 2014, 8:30 a.m. Until 9:30 a.m. (Closed Session)

The Committee will conduct the Executive Director's performance review and receive a briefing on proposed changes to the staff's health insurance.

Advisory Panel Selection Committee, Tuesday, December 2, 2014, 9:30 a.m. Until 11 a.m. (Closed Session)

The Committee will review applications for open seats and provide recommendations to Council for consideration.

SEDAR Committee, Tuesday, December 2, 2014, 11 a.m. Until 12 Noon

The Committee will receive an update on SEDAR activities and develop guidance for the Council's SEDAR Steering Committee members.

Snapper Grouper Committee, Tuesday, December 2, 2014, 1:30 p.m. Until 5:30 p.m. and Wednesday, December 3, 2014 From 8:30 a.m. Until 5 p.m.

1. The Committee will receive an update on the status of amendments currently under review, a report from the Snapper Grouper Advisory Panel, and a report from the Scientific and Statistical Committee.

2. The Committee will receive an overview of Snapper Grouper Regulatory Amendment 16 addressing the current seasonal closure for the black sea bass pot fishery, and presentations on analyses conducted by Council staff, analyses conducted by NOAA Fisheries Southeast Regional Office, and on risk of entanglement changes for pot gear since the 2006 Biological Opinion from NOAA Fisheries. The Committee will modify the document, choose preferred alternatives if possible, and is scheduled to recommend approval of the amendment for public hearings.

3. The Committee will receive an overview of Snapper Grouper Regulatory Amendment 22 addressing proposed management measures for gag and wreckfish and public comment received. The Committee will review the document, modify as necessary and is scheduled to recommend approving the amendment for formal Secretarial review.

4. The Committee will receive an overview of Snapper Grouper Amendment 22 addressing the use of tags to track harvest. The Committee will receive a presentation from the North Carolina Division of Marine Fisheries on the Catch Card Program, discuss the draft amendment, and provide guidance to staff.

5. The Committee will receive an overview of Snapper Grouper Amendment 36 pertaining to Spawning Special Management Zones. The Committee will receive a presentation on observations of spawning activity, review the amendment, modify as needed, and provide guidance to staff.

6. The Committee will receive an overview of Snapper Grouper Amendment 35 addressing the removal of species from the Snapper Grouper Fishery Management Unit and measures affecting endorsements for the commercial golden tilefish fishery. The Committee will review the amendment, modify as appropriate, and is scheduled to approve the amendment for public hearing.

Note: There will be an informal public question and answer session with the NMFS Regional Administrator and the Council Chairman on Wednesday, December 3, 2014, beginning at 5:30 p.m.

Joint Snapper Grouper Committee and Dolphin Wahoo Committee, Thursday, December 4, 2014, 8:30 a.m. Until 10:30 a.m.

1. The Committees will receive an update on the status of commercial and recreational catches versus annual catch limits (ACLs) for dolphin and wahoo. The Committees will also receive an overview of Dolphin Wahoo Amendment 7/Snapper Grouper Amendment 33 pertaining to measures to allow fillets to be brought back into the U.S. Exclusive Economic Zone from The Bahamas. The Committees will review the Decision Document, modify the amendment as appropriate, and is scheduled to approve the amendment for formal Secretarial review.

2. The Committees will receive an overview of the Generic Accountability Measures and Dolphin Allocation Amendment, review the Decision Document, modify the amendment as appropriate, and is scheduled to approve the amendment for Secretarial review.

King and Spanish Mackerel Committee, Thursday, December 4, 2014, 10:30 a.m. Until 12 Noon

1. The Committee will receive an update on the status of amendments under formal review and a report from the Gulf of Mexico Fishery Management Council meeting.

2. The Committee will receive overview of the SEDAR 38 stock assessment for king mackerel, receive a report from the SSC, and take action as necessary to specify any changes to the ACLs through the development of future amendments.

3. The Committee will receive an overview of a Discussion Paper for Amendment 24 addressing ACLs and allocations for Atlantic Spanish Mackerel and provide direction to staff.

Executive Finance Committee, Thursday, December 4, 2014, 1:30 p.m. Until 2:30 p.m.

1. The Committee will receive an update on the status of the Calendar Year 2014 budget expenditures, review the Council Follow Up document and priorities, receive an update on Joint South Florida Committee issues and address other issues as appropriate.

Golden Crab Committee, Thursday, December 4, 2014, 2:30 p.m. Until 3:30 p.m.

1. The Committee will receive an update on commercial catches versus the ACL for golden crab.

2. The Committee will receive an overview of the Generic Accountability Measures and Dolphin Allocation Amendment, review and modify the amendment as appropriate, and is scheduled to approve the amendment for submission to the Secretary of Commerce.

Data Collection Committee, Thursday, December 4, 2014, 3:30 p.m. Until 5 p.m.

1. The Committee will receive an update on the status of work on Bycatch Reporting in the Southeast from NOAA Fisheries, a presentation on the Electronic Technology Implementation Plan for data collection and monitoring, an overview status update on the Implementation Plan for Commercial Logbook Electronic Reporting, and a presentation on the status of the commercial electronic logbook pilot project. The Committee will provide direction to staff as appropriate.

2. The Committee will also receive an overview of the Joint South Atlantic and Gulf Council Generic Charterboat Reporting Amendment, including actions by the Gulf of Mexico Fishery Management Council, a final report from the Technical Committee, and provide guidance to staff as appropriate.

Note: A formal public comment session will be held on Thursday, December 4, 2014, beginning at 5:30 p.m. Public comment will be accepted on the following items scheduled for final Council action at this meeting: (1) Snapper Grouper Regulatory Amendment 22 (gag and wreckfish); (2) Dolphin Wahoo Amendment 7/Snapper Grouper Amendment 33 (fillets from The Bahamas); and (3) Generic Accountability Measures and Dolphin Allocation Amendment. Following comment on these amendments, public comment will be accepted regarding any other items on the Council agenda. The Chairman, based on the number of individuals wishing to comment, will determine the amount of time provided to each commenter.

Council Session: Friday, December 5, 2014, 8:30 a.m. Until 1:30 p.m.

8:30 a.m.-8:45 a.m.: Call the meeting to order, adopt the agenda, and approve the September 2014 minutes.

8:45 a.m.-9:15 a.m.: The Council will receive a report from the Snapper Grouper Committee and is scheduled to either approve or disapprove Regulatory Amendment 22 to the Snapper Grouper Fishery Management Plan for formal Secretarial review. The Council will also consider approving or disapproving Amendment 35 and Regulatory Amendment 16 for public hearings, consider other Committee recommendations and take action as appropriate.

9:15 a.m.-9:30 a.m.: The Council will receive a report from the King and Spanish Mackerel Committee, consider Committee recommendations and take action as appropriate.

9:30 a.m.-9:45 a.m.: The Council will receive a report from the SSC Selection Committee, consider Committee recommendations and take action as appropriate.

9:45 a.m.-10 a.m.: The Council will receive the Council Visioning Workshop Report, consider recommendations and take action as appropriate.

10 a.m.-10:15 a.m.: The Council will receive a report from the Habitat Committee, consider recommendations and take action as appropriate.

10:15 a.m.-10:30 a.m.: The Council will receive a report from the Protected Resources Committee, consider committee recommendations and take action as appropriate.

10:30 a.m.-10:45 a.m.: The Council will receive a report from the Advisory Panel Selection Committee, consider Committee recommendations for appointment/reappointment of new members and will take action as appropriate. The Council will consider other Committee recommendations and take action as appropriate.

10:45 a.m.-11 a.m.: The Council will receive a report from the SEDAR Committee, consider Committee recommendations, and take action as appropriate.

11 a.m.-11:15 a.m.: The Council will receive a report from the Joint Dolphin Wahoo and Snapper Grouper Committees and approve or disapprove Dolphin Wahoo Amendment 7 and Snapper Grouper Amendment 33 (fillets from the Bahamas) for formal Secretarial review. The Council will consider other Committee recommendations and take action as appropriate.

11:15 a.m.-11:30 a.m.: The Council will receive a report from the Executive Finance Committee, approve the Council Follow Up and Priorities, take action on the South Florida Management issues as appropriate, and consider Committee recommendations and take action as appropriate.

11:30 a.m.-11:45 a.m.: The Council will receive a report from the Golden Crab Committee, approve or disapprove the Generic Accountability Measures and Dolphin Allocation Amendment for formal review, consider other Committee recommendations and take action as appropriate.

11:45 a.m.-12 noon: The Council will receive a report from the Data Collection Committee, consider Committee recommendations and take action as appropriate.

12 noon-1:30 p.m.: The Council will receive status reports from NOAA Fisheries SERO and the Southeast Fisheries Science Center. The Council will review and develop recommendations on Experimental Fishing Permits as necessary; review agency and liaison reports; and discuss other business and upcoming meetings.

Documents regarding these issues are available from the Council office (see ADDRESSES).

Although non-emergency issues not contained in this agenda may come before these groups for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the council office (see ADDRESSES) 3 days prior to the meeting.

Note: The times and sequence specified in this agenda are subject to change.

Authority: 16 U.S.C. 1801 et seq.

Dated: November 10, 2014.
Tracey L. Thompson,
Acting Deputy Director, Office of Sustainable Fisheries, National Marine Fisheries Service.

[FR Doc. 2014-27000 Filed 11-13-14; 8:45 am]

BILLING CODE 3510-22-P